NUCLEAR REGULATORY COMMISSION

Supplement 1 to Revision 9 of NUREG-1021, “Operator Licensing Examination Standards for Power Reactors,” and Supplement 1 to Revision 2 of NUREG-1122 [and -1123], “Knowledge and Abilities Catalog for Nuclear Power Plant Operators: Pressurized [Boiling] Water Reactors”

AGENCY: Nuclear Regulatory Commission.

ACTION: Notice of availability.

SUMMARY: The Nuclear Regulatory Commission (NRC) has issued Supplement 1 to Revision 9 of NUREG-1021, “Operator Licensing Examination Standards for Power Reactors,” and Supplement 1 to Revision 2 of NUREG-1122 [and -1123] “Knowledge and Abilities Catalog for Nuclear Power Plant Operators: Pressurized [Boiling] Water Reactors.” These NUREGs provide policy and guidance for the development, administration, and grading of examinations used for licensing operators at nuclear power plants pursuant to the Commission's regulations in 10 CFR part 55, “Operators” Licenses.” NUREG-1021 also provides guidance for maintaining operators' licenses and for the NRC to conduct requalification examinations, when necessary.

These NUREGs have been revised to implement a number of clarifications and enhancements that have been identified since Revision 9 to NUREG-1021 was published in July 2004 and Revision 2 to NUREG-1122 [and -1123] was published in June 1998. A draft of each of the Supplements was issued for comment on May 22, 2007 (72 FR 28728).

A summary of the comments received regarding the draft Supplements, and the NRC staff's response to those comments is available in the NRC's Public Electronic Reading Room (http://www.nrc.gov/reading-rm/adams.html), at accession number ML072600319. From this site, you can access the NRC's Agencywide Document Access and Management System (ADAMS), which provides text and image files of the NRC's public documents.

Supplement 1 to NUREG-1021 includes a number of minor changes that: (1) Clarify licensed operator medical requirements, including the use of prescription medications; (2) clarify the use of surrogate operators during dynamic simulator scenarios; (3) clarify the selection process for generic knowledge and ability (K/A) statements; (4) qualify the NRC review of post-examination comments; (5) provide additional guidance for maintaining an active license (watchstander proficiency) and license reactivation; and (6) conform with Supplement 1 to Revision 2 of NUREG-1122 [and -1123], which rewords and reorganizes Section 2, “Generic Knowledge and Abilities,” and adds a new K/A topic for generator voltage and electric grid disturbances.

Availability: Copies of the three NUREG Supplements are being mailed to the plant or site manager at each nuclear power facility regulated by the NRC. The Supplements are also available electronically via the NRC's Public Electronic Reading Room (http://www.nrc.gov/reading-rm/doc-collections/nuregs/) and in the NRC's Public Document Room located at 11555 Rockville Pike, Rockville, Maryland. If you do not have electronic access to NRC documents, single copies of the Supplements are available, to the extent of supply, and may be requested by writing to the Office of Information Services, Information and Records Services, U.S. Nuclear Regulatory Commission, Washington, DC 20555-0001.

DATES: Supplement 1 to Revision 9 of NUREG-1021 and Supplement 1 to Revision 2 of NUREG-1122 [and -1123] will become effective for examinations that are confirmed 60 or more days after the date of this notice by issuance of an official corporate notification letter or at an earlier date agreed upon by the facility licensee and its NRC Regional Office. After the effective date, NRC initial operator licensing examinations are expected to be prepared and administered in accordance with the NUREG Supplements.

FOR FURTHER INFORMATION CONTACT: David S. Muller, Operator Licensing and Human Performance Branch, Office of Nuclear Reactor Regulation, U.S. Nuclear Regulatory Commission, Washington, DC 20555-001. Telephone: (301) 415-1412; e-mail: dsm3@nrc.gov.

Dated at Rockville, Maryland, this 3rd day of October 2007.
For the Nuclear Regulatory Commission.
Siegfried Guenther,
Acting Chief, Operator Licensing and Human Performance Branch, Division of Inspection and Regional Support, Office of Nuclear Reactor Regulation.

[FR Doc. E7-20676 Filed 10-18-07; 8:45 am]

BILLING CODE 7590-01-P